DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of April 3, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
New London County, Connecticut (All Jurisdictions)
Docket No.: FEMA-B-1771
Town of North Stonington | Old Town Hall, 40 Main Street, North Stonington, CT 06359.
Town of Stonington | Town Hall, 152 Elm Street, Stonington, CT 06378.
Town of Voluntown | Town Hall, 115 Main Street, Voluntown, CT 06384.
Allegany County, Maryland and Incorporated Areas
Docket No.: FEMA-B-1601 and FEMA-B-1905
City of Cumberland | City Hall, 57 North Liberty Street, Cumberland, MD 21502.
City of Frostburg | City Hall, 59 East Main Street, Frostburg, MD 21532.
Town of Barton | Town Hall, 19018 Legislative Road SW, Barton, MD 21521.
Town of Lonaconing | Town Hall, 35 East Main Street, Lonaconing, MD 21539.
Town of Luke | City Building, 510 Grant Street, Luke, MD 21540.
Town of Midland | Town Hall, 19823 Big Lane SW, Midland, MD 21532.
Town of Westernport | City Building, 107 Washington Street, Westernport, MD 21562.
Unincorporated Areas of Allegany County | Allegany County Office Building, 701 Kelly Road, Cumberland, MD 21502.
Essex County, New Jersey (All Jurisdictions)
Docket Nos.: FEMA-B-1471 and B-1800
Borough of North Caldwell | Borough Hall, 141 Gould Avenue, North Caldwell, NJ 07006.
Borough of Roseland | Public Works Department, 300 Eagle Rock Avenue, Roseland, NJ 07068.
Township of Belleville | Engineering Office, 152 Washington Avenue, Belleville, NJ 07109.
Township of Bloomfield | Municipal Building, 1 Municipal Plaza, Bloomfield, NJ 07003.
Township of Fairfield | Municipal Building, Engineering Department, 230 Fairfield Road, Fairfield, NJ 07004.
Township of Livingston | Township Hall, Engineering Department, 357 South Livingston Avenue, Livingston, NJ 07039.
Township of Montclair | Planning Department, 205 Claremont Avenue, Montclair, NJ 07042.
Township of Nutley | Township Hall, 1 Kennedy Drive, Nutley, NJ 07110.
Township of West Caldwell | Municipal Building, 30 Clinton Road, West Caldwell, NJ 07006.
Kent County, Rhode Island (All Jurisdictions)
Docket No.: FEMA-B-1771
Town of Coventry | Planning Department, 1675 Flat River Road, Coventry, RI 02816.
Town of West Greenwich | Town Hall Annex South, Building Official's Office, 302 Victory Highway, West Greenwich, RI 02817.
Washington County, Rhode Island (All Jurisdictions)
Docket No.: FEMA-B-1771
Narragansett Indian Tribe | Administration Building, 4533 South County Trail, Charlestown, RI 02813.
Town of Charlestown | Town Hall, Building Department, 4540 South County Trail, Charlestown, RI 02813.
Town of Exeter | Town Hall, Town Clerk's Office, 675 Ten Rod Road, Exeter, RI 02822.
Town of Hopkinton | Town Hall, 1 Town House Road, Hopkinton, RI 02833.
Town of North Kingstown | Department of Public Works, Engineering Department, 2050 Davisville Road, North Kingstown, RI 02852.
Town of Richmond | Richmond Town Hall, 5 Richmond Townhouse Road, Wyoming, RI 02898.
Town of South Kingstown | South Kingstown Town Hall, 180 High Street, Wakefield, RI 02879.
Town of Westerly | Town Hall, 45 Broad Street, Westerly, RI 02891.
Grand County, Utah and Incorporated Areas
Docket No.: FEMA-B-1860
Unincorporated Areas of Grand County | Grand County Courthouse, 125 East Center Street, Moab, UT 84532.

[FR Doc. 2019-24885 Filed 11-15-19; 8:45 am]

BILLING CODE 9110-12-P